NUCLEAR REGULATORY COMMISSION

[NRC-2018-0114]

Biweekly Notice; Applications and Amendments to Facility Operating Licenses and Combined Licenses Involving No Significant Hazards Considerations

Correction

In Notice document 2018-12506 beginning on page 28456 in the issue of Tuesday, June 19, 2018, make the following correction:

On page 28464, in the second column, the seventh and eighth paragraphs should read as follows:

“Date of amendment request: April 13, 2018. A publicly-available version is in ADAMS under Accession No. ML18103A252.

Description of amendment request: The amendment request proposes to change Technical Specifications (TSs) Limiting Condition for Operation 3.5.5 to not require the Passive Residual Heat Removal Heat Exchanger to be operable in Mode 5 during vacuum fill operations. Additionally, the requested amendment proposes to change Surveillance Requirement (SR) 3.5.7.1 regarding operability requirements for the In-containment Refueling Water Storage Tank and associated flow paths and proposes to add an additional SR 3.5.7.2 to address operability requirements that are not required during vacuum fill operations. Finally, the requested amendment proposes conforming changes to the Updated Final Safety Analysis Report, Appendix 19E, Subsection 2.3.2.4.”

[FR Doc. C1-2018-12506 Filed 6-21-18; 8:45 am]

BILLING CODE 1301-00-D